ENVIRONMENTAL PROTECTION AGENCY

[FRL-9941-63-OA]

Notification of a Public Meeting of the Science Advisory Board Environmental Economics Advisory Committee

AGENCY: Environmental Protection Agency (EPA).

ACTION: Notice.

SUMMARY: The Environmental Protection Agency (EPA or Agency) Science Advisory Board (SAB) Staff Office announces a public meeting of the SAB Environmental Economics Advisory Committee to review the EPA's proposed methodology for updating its mortality risk valuation estimates for policy analysis.

DATES: The public meeting will be held on March 7, 2016 from 9:00 a.m. to 5:00 p.m. (Eastern Time) and on March 8, 2016, from 8:30 a.m. to 4:30 p.m. (Eastern Time).

ADDRESSES: The public meeting will be held at the Crowne Plaza Washington National Airport Hotel, 1480 Crystal Drive, Arlington, VA 22202.

FOR FURTHER INFORMATION CONTACT: Any member of the public who wants further information concerning this public meeting may contact Dr. Thomas Armitage, Designated Federal Officer (DFO), EPA Science Advisory Board Staff Office (1400R) U.S. Environmental Protection Agency, 1200 Pennsylvania Avenue NW., Washington, DC 20460; by telephone at (202) 564-2155 or via email at armitage.thomas@epa.gov. General information concerning the EPA SAB can be found at http://www.epa.gov/sab.

SUPPLEMENTARY INFORMATION:

Background: The SAB was established pursuant to the Environmental Research, Development, and Demonstration Authorization Act (ERDAA) codified at 42 U.S.C. 4365, to provide independent scientific and technical advice to the Administrator on the technical basis for Agency positions and regulations. The SAB is a Federal Advisory Committee chartered under the Federal Advisory Committee Act (FACA), 5 U.S.C. App. 2. The SAB will comply with the provisions of FACA and all appropriate SAB Staff Office procedural policies. Pursuant to FACA and EPA policy, notice is hereby given that the SAB Environmental Economics Advisory Committee will hold a public meeting to review the EPA's proposed methodology for updating its mortality risk valuation estimates for policy analysis. Estimates of the value of mortality risk reductions play an important role in the EPA's analysis of the benefits of regulatory actions. The committee will provide advice to the Administrator through the chartered SAB.

The EPA's Office of Policy has requested advice on proposed improvements to the Agency's methodology for estimating benefits associated with reduced risk of mortality. This methodology takes into account the amounts that individuals are willing to pay for reductions in mortality risk. The resulting values are combined into an estimate known as the value of statistical life (VSL) which is used in regulatory benefit-cost analysis. The EPA has also requested that the SAB review options for accounting for changes in the VSL over time as real income grows, known as income elasticity of willingness to pay. The EPA has submitted the following documents to the SAB for review: (1) Valuing Mortality Risk for Policy: a Meta-analytic Approach, a white paper prepared by the EPA Office of Policy to describe the Agency's interpretation and application of SAB recommendations received in July 2011 regarding updates to the EPA's estimates of mortality risk valuation; (2) The Effect of Income on the Value of Mortality and Morbidity Risk Reductions, a report prepared for the EPA's Office of Air and Radiation on options for updating the Agency's recommended estimate for the income elasticity of the value of statistical life; and (3) Recommended Income Elasticity and Income Growth Estimates: Technical Memorandum, an EPA memorandum providing supplementary information to the report. Additional information about this SAB advisory activity can be found at the following URL: http://yosemite.epa.gov/sab/sabproduct.nsf/fedrgstr_activites/Measuring%20Mortality%20Risk?OpenDocument.

Technical Contacts: Any technical questions concerning the documents to be reviewed by the SAB should be directed to Dr. Nathalie Simon in the EPA's National Center for Environmental Economics, by telephone at 202-566-2347 or by email at Simon.nathalie@epa.gov.

Availability of the meeting materials: Prior to the meeting, the review documents, agenda and other materials will be accessible on the meeting page on the SAB Web site at http://www.epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant information on the topic of this advisory activity, including the charge to the panel and the EPA review documents, and/or the group conducting the activity, for the SAB to consider during the advisory process. Input from the public to the SAB will have the most impact if it consists of comments that provide specific scientific or technical information or analysis for the SAB panel to consider or if it relates to the clarity or accuracy of the technical information. Members of the public wishing to provide comment should contact the DFO directly.

Oral Statements: In general, individuals or groups requesting an oral presentation at the meeting will be limited to five minutes per speaker. Interested parties should contact Dr. Thomas Armitage, DFO, in writing (preferably via email), at the contact information noted above, by February 29, 2016 to be placed on the list of public speakers for the meeting.

Written Statements: Written statements will be accepted throughout the advisory process; however, for timely consideration by Committee members, statements should be supplied to the DFO (preferably via email) at the contact information noted above by February 29, 2016. It is the SAB Staff Office general policy to post written comments on the Web page for advisory meetings. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Armitage at the contact information provided above. To request accommodation of a disability, please contact Dr. Armitage preferably at least ten days prior to the meeting, to give EPA as much time as possible to process your request.

Dated: January 19, 2016.
Thomas H. Brennan,
Deputy Director, EPA Science Advisory Board Staff Office.

[FR Doc. 2016-01507 Filed 1-25-16; 8:45 am]

BILLING CODE 6560-50-P